DEPARTMENT OF HEALTH AND HUMAN SERVICES

Performance Review Board Members

Title 5 U.S.C. 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Employee last name | Employee first name
ARONSON | LAUREN
ATKINSON | LESLIE
BAITMAN | FRANKLIN
BARCLAY | LISA
BEADLE | MIRTHA
BERGER | SHERRI
BERNARDY | PETER
BOWERS | TONYA
BOYCE | DONALD
BRUCE | MICHAEL
CHAFFIN | EUGENIA
CHAUDRY | AJAY
CHOI | JULIET
COHEN | GARY
CONNOR | SUZI
COX | VIRGINIA
DANIEL | KATHERINE
DEL VECCHIO | PAOLO
DELPHIN-RITTMON | MIRIAM
DEVOSS | ELIZABETH
DICKINSON | ELIZABETH
ERNEY | JOAN
GABRIEL | EDWARD
GOLDHABER | BEN
GOTTLICH | VICKI
HENDERSON | JOSEPH
HOLLIE | LESLIE
HOOVER | CAMILLE
IMMERGUT | STEVEN
IYER | RAJ
JONES | CHRISTINE
KAPPELER | EVELYN
KEMPER | PETER
KETCHER | MARTHA
KOLKER | JIMMY
KUX | LESLIE
LEWIS | TERESA
LU | MICHAEL
METTLER | ERIK
MILLER | TERESA
MUNTZ | DAVID
MURPHY | JUDITH
NOVY | STEVEN
OLIN | ELAINE
POTTS | OLIVER
RAJKUMAR | RAHUL
REILLY | THOMAS
RODRIGUEZ | LEON
SCHWEITZER | ROXANNE
SEYLER | DEAN
SHEAFFER | HEIDI
SHELTON | DANA
SIVAK | BRYAN
SMAGH | KALWANT
SMITH | LINDA
SMITH | PHILLIP
SMITH | TYLER
STARINSKY | MELISSA
STEVENS | CHERYL
STEVENSON | COREY
SUFIAN | AVIVA
SYE | TAIT
TAYLOR | DIA
TETI | CATHERINE
VILLAR | CARMEN
WHEELES | TIMOTHY
WILSON | LEE ANDREW
WOESTELL | MEGAN
WRIGHT | DAVID
YOUNG | JASON

Non-SES Employees

Employee last name | Employee first name
BOWMAN | BARBARA
BRANCH | CHRISTINE
HADDIX | ANNE
MUSSER | STEVEN
NICHOLSON | JANET
POLLACK | STEVEN
POPOVIC | TANJA
REDD | STEVE
SINKS | TOM

Dated: October 3, 2012.
Denise L. Carter,
Deputy Assistant Secretary for Human Resources.

[FR Doc. 2012-25015 Filed 10-10-12; 8:45 am]

BILLING CODE 4151-17-P